DEPARTMENT OF THE INTERIOR

Fish and Wildlife Service

Information Collection To Be Sent to the Office of Management and Budget (OMB) for Approval Under the Paperwork Reduction Act; Research To Support Analysis and Management of Carrying Capacity at Lake Umbagog National Wildlife Refuge

AGENCY: Fish and Wildlife Service, Interior.

ACTION: Notice; request for comments.

SUMMARY: We (Fish and Wildlife Service) plan to request that OMB approve our information collection associated with research to support analysis and management of the carrying capacity at Lake Umbagog National Wildlife Refuge in Errol, New Hampshire. We will request that OMB approve this information collection for a 1-year term.

DATES: You must submit comments on or before March 28, 2006.

ADDRESSES: Send your comments on the information collection to Hope Grey, Information Collection Clearance Officer, Fish and Wildlife Service, MS 222-ARLSQ, 4401 N. Fairfax Drive, Arlington, VA 22203 (mail); hope_grey@fws.gov (e-mail); or (703) 358-2269 (fax).

FOR FURTHER INFORMATION CONTACT: To request a copy of the information collection requirements, explanatory information, or related material, contact Hope Grey, Information Collection Clearance Officer, at the above addresses or by telephone at (703) 358-2482.

SUPPLEMENTARY INFORMATION: OMB regulations at 5 CFR 1320, which implement the provisions of the Paperwork Reduction Act of 1995 (44 U.S.C. 3501 et seq.), require that interested members of the public and affected agencies have an opportunity to comment on information collection and recordkeeping activities (see 5 CFR 1320.8(d)). Federal agencies may not conduct or sponsor and a person is not required to respond to a collection of information unless it displays a currently valid OMB control number.

Lake Umbagog National Wildlife Refuge contains significant natural and recreational resources. We estimate that the area accommodates over 50,000 visits per year, and this can result in significant resource and social impacts. We propose to gather information that will help support application of visitor carrying capacity at Lake Umbagog National Wildlife Refuge. Study objectives will focus on three elements of carrying capacity frameworks that can benefit the most from empirical data: (1) Collecting baseline data on visitor use and perceptions of associated resource and social impacts, (2) identifying indicators and standards of quality, and (3) management of visitor use to ensure that we maintain standards of quality.

Title of Collection: Research to Support Analysis and Management of Carrying Capacity at Lake Umbagog National Wildlife Refuge.

OMB Control Number: This is a new collection.

Service Form Number: None.

Frequency of Responses: One time per respondent.

Description of Respondents: Visitors to Lake Umbagog National Wildlife Refuge.

Estimated Number of Respondents: 500.

Estimated Number of Responses: 500.

Estimated Total Annual Burden Hours: 125 hours. We estimate that the reporting burden will average 15 minutes per respondent.

We invite your comments concerning this information collection on: (1) Whether or not the collection of information is necessary to properly manage visitor carrying capacity, including whether or not the information will have practical utility; (2) the accuracy of our burden estimate; (3) ways to enhance the quality, utility and clarity of the information we want to collect; and (4) ways to minimize the burden of the collection of information on respondents.

The information collections in this program are part of a system of records covered by the Privacy Act (5 U.S.C. 552a). Our practice is to make comments, including names and home addresses of respondents, available for public review during regular business hours. Individual respondents may request that we withhold their home addresses from the record, which we will honor to the extent allowable by law. There may also be limited circumstances in which we would withhold a respondent's identity from the administrative record, as allowable by law. If you wish us to withhold your name and/or address, you must state this clearly at the beginning of your comment. We will not consider anonymous comments. We generally make all submissions from organizations or businesses and from individuals identifying themselves as representatives or officials of organizations or businesses available for public inspection in their entirety.

Dated: January 13, 2006.
Hope Grey,
Information Collection Clearance Officer, Fish and Wildlife Service.

[FR Doc. E6-1057 Filed 1-26-06; 8:45 am]

BILLING CODE 4310-55-P